NATIONAL AERONAUTICS AND SPACE ADMINISTRATION

[Notice 03-049]

Centennial of Flight Commission

AGENCY: National Aeronautics and Space Administration.

ACTION: Notice of meeting.

SUMMARY: In accordance with the Federal Advisory Committee Act, Public Law 92-463, as amended, the National Aeronautics and Space Administration announces a meeting of the U.S. Centennial of Flight Commission.

DATES: Tuesday, May 20, 2003, 1 p.m. to 4 p.m.

ADDRESSES: First Flight Centennial Pavilion, Wright Brothers Memorial, Kitty Hawk, NC.

FOR FURTHER INFORMATION CONTACT: Ms. Beverly Farmarco, Code IC, National Aeronautics and Space Administration, Washington, DC 20546, 202/358-1903.

SUPPLEMENTARY INFORMATION: The meeting will be open to the public up to the seating capacity of the room. The agenda for the meeting is as follows:

• Opening Remarks

• First Flight Centennial Federal Advisory Board

• North Carolina Status

• Ohio Status

• Air Force Status

• Rockefeller Center 2

• Canadian Centennial of Flight

• Carter Ryley Thomas

• Closing Comments

It is imperative that the meeting be held on this date to accommodate the scheduling priorities of the key participants.

Visitors will be requested to sign a visitor's register.

Due to limited availability of seating, members of the public will be admitted on a first-come, first-serve basis.

June W. Edwards,
Advisory Committee Management Officer, National Aeronautics and Space Administration.

[FR Doc. 03-11243 Filed 5-6-03; 8:45 am]

BILLING CODE 7510-01-P